DEPARTMENT OF ENERGY

Federal Energy Regulatory Commission

Combined Notice of Filings #1

July 1, 2005.

Take notice that the Commission received the following electric rate filings.

Docket Numbers: ER00-3039-001.

Applicants: Exeter Energy Ltd Partnership.

Description: Exeter Energy Limited Partnership, in compliance with the Commission's order issued 5/25/05 (111 FERC ¶ 61,239 (2005)), submits its market power analysis, tariff revisions.

Filed Date: 06/27/2005.

Accession Number: 20050629-0224.

Comment Date: 5 p.m. eastern time on Monday, July 18, 2005.

Docket Numbers: ER04-902-002.

Applicants: Oklahoma Gas and Electric Company.

Description: Oklahoma Gas and Electric Company, pursuant to the Commission's letter order issued 4/26/2005 in Docket Nos. ER04-902-000 and 001, submits its FERC Rate Schedule 126 formatted in compliance with Order 614.

Filed Date: 06/27/2005.

Accession Number: 20050629-0230.

Comment Date: 5 p.m. eastern time on Monday, July 18, 2005.

Docket Numbers: ER98-4336-013.

Applicants: Spokane Energy, LLC.

Description: Spokane Energy LLC submits an amendment to its pending filings to adopt the pro forma language enunciated in the rehearing order of Order 652.

Filed Date: 06/27/2005.

Accession Number: 20050629-0007.

Comment Date: 5 p.m. eastern time on Monday, July 18, 2005.

Docket Numbers: ER00-1814-006.

Applicants: Avista Turbine Power, Inc.

Description: Avista Turbine Power Inc submits an amendment to its pending rate schedule, to adopt the pro forma language in the Commission's recent order on rehearing of Order 652.

Filed Date: 06/27/2005.

Accession Number: 20050629-0006.

Comment Date: 5 p.m. eastern time on Monday, July 18, 2005.

Docket Numbers: ER99-1435-011.

Applicants: Avista Corporation.

Description: Avista Corporation submits an amendment to its pending rate schedule, to adopt the pro forma language contained in the Commission's recent order on rehearing of Order 652.

Filed Date: 06/27/2005.

Accession Number: 20050629-0008.

Comment Date: 5 p.m. eastern time on Monday, July 18, 2005.

Docket Numbers: ER96-2408-023.

Applicants: Avista Energy Inc.

Description: Avista Energy, Inc submits an Amendment to its pending rate schedule filing to adopt the pro forma language enunciated in the Commission's recent order on rehearing of Order 652.

Filed Date: 06/27/2005.

Accession Number: 20050629-0005.

Comment Date: 5 p.m. eastern time on Monday, July 18, 2005.

Docket Numbers: ER05-1020-001.

Applicants: WASP Energy LLC.

Description: WASP Energy, LLC submits petition for acceptance of initial rate schedule 1, waivers and blanket authority.

Filed Date: 06/27/2005.

Accession Number: 20050628-0062.

Comment Date: 5 p.m. eastern time on Monday, July 18, 2005.

Docket Numbers: ER05-1146-000

Applicants: Shiloh I Wind Project LLC.

Description: Shiloh I Wind Project, LLC submits its initial rate schedule, a request for the granting of authorizations & blanket authority & for waiver of certain requirements.

Filed Date: 06/27/2005.

Accession Number: 20050628-0224.

Comment Date: 5 p.m. eastern time on Monday, July 18, 2005.

Docket Numbers: ER05-1147-000.

Applicants: Archer Daniels Midland Company.

Description: Archer Daniels Midland Company submits a notice of cancellation of its Power Purchase Agreement with Central Illinois Light Company, now known as AmerenCILCO.

Filed Date: 06/27/2005.

Accession Number: 20050628-0226.

Comment Date: 5 p.m. eastern time on Monday, July 18, 2005.

Docket Numbers: ER05-1148-000.

Applicants: Aquila, Inc.

Description: Aquila, Inc. submits the Incremental Energy Agreement between Aquila, Inc. d/b/a Aquila Networks, WPK and the City of Russell, Kansas.

Filed Date: 06/27/2005.

Accession Number: 20050629-0218.

Comment Date: 5 p.m. eastern time on Monday, July 18, 2005.

Docket Numbers: ER05-1149-000.

Applicants: South Carolina Electric & Gas Company.

Description: South Carolina Electric & Gas Company submits an executed service agreement for network integration transmission service and an executed network operating agreement between SCE&G and Central Electric Power Cooperative, Inc.

Filed Date: 06/27/2005.

Accession Number: 20050629-0219.

Comment Date: 5 p.m. eastern time on Monday, July 18, 2005.

Docket Numbers: ER05-1150-000.

Applicants: Duke Energy Corporation.

Description: Duke Electric Transmission submits an executed and revised network integration transmission service agreement with New Horizon Electric Cooperation, Inc.

Filed Date: 06/27/2005.

Accession Number: 20050629-0220.

Comment Date: 5 p.m. eastern time on Monday, July 18, 2005.

Docket Numbers: ER05-1151-000; ER05-226-002

Applicants: Southwest Power Pool, Inc.

Description: Southwest Power Pool, Inc. submits a revised Interchange and Interconnection Agreement between Grand River Dam Authority, Public Service Company of Oklahoma and SPP that is currently pending before FERC to correct typographical errors in the originally filed agreement and to add a new delivery and metering point at Honey Creek .

Filed Date: 06/27/2005.

Accession Number: 20050629-0240.

Comment Date: 5 p.m. eastern time on Monday, July 18, 2005.

Docket Numbers: ER05-723-002.

Applicants: TransCanada Power (Castleton) LLC.

Description: TransCanada Power, LLC, pursuant to the Commission's order issued 5/26/05 (111 FERC ¶ 61,264 (2005)), submits a revised tariff with a provision relating to change in status reporting requirements.

Filed Date: 06/27/2005.

Accession Number: 20050629-0225.

Comment Date: 5 p.m. eastern time on Monday, July 18, 2005.

Docket Numbers: ER99-2369-002.

Applicants: Alliance For Cooperative Energy Services Power Marketing, LLC.

Description: Alliance For Cooperative Energy Services Power Marketing, LLC, pursuant to the Commission's order issued 5/26/05 (111 FERC ¶ 61,295 (2005)), submits its triennial updated market power analysis and revisions to its market-based rate schedule.

Filed Date: 06/27/2005.

Accession Number: 20050629-0223.

Comment Date: 5 p.m. eastern time on Monday, July 18, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3625 Filed 7-8-05; 8:45 am]

BILLING CODE 6717-01-P